DEPARTMENT OF HEALTH AND HUMAN SERVICES

Food and Drug Administration

21 CFR Part 2

[Docket No. FDA-2006-N-0304] (formerly Docket No. 2006N-0262)

RIN 0910-AF93

Use of Ozone-Depleting Substances; Removal of Essential-Use Designation (Flunisolide, etc.); Correction

AGENCY: Food and Drug Administration, HHS.

ACTION: Final rule; correction.

SUMMARY: The Food and Drug Administration (FDA) is correcting a final rule that appeared in the Federal Register of April 14, 2010 (75 FR 19213). The document amended FDA's regulation on the use of ozone-depleting substances (ODSs) in self-pressurized containers to remove the essential-use designations for flunisolide, triamcinolone, metaproterenol, pirbuterol, albuterol and ipratropium in combination, cromolyn, and nedocromil used in oral pressurized metered-dose inhalers (MDIs). The document was published with an inadvertent error. This document corrects that error.

FOR FURTHER INFORMATION CONTACT: Diane Sullivan, Office of Policy, Food and Drug Administration, 10903 New Hampshire Ave., Bldg. 32, rm. 3210, Silver Spring, MD 20993, 301-796-9171.

SUPPLEMENTARY INFORMATION: In FR Doc. 2010-8467, appearing on page 19213, in the Federal Register of Wednesday, April 14, 2010, the following correction is made:

1. On page 19213, in the third column, the heading “RIN 0910-AF92” is corrected to read “RIN 0910-AF93”.

Dated: September 13, 2010.
David Dorsey,
Acting Deputy Commissioner for Policy, Planning and Budget.

[FR Doc. 2010-23195 Filed 9-16-10; 8:45 am]

BILLING CODE 4160-01-S